DEPARTMENT OF THE INTERIOR

Bureau of Indian Affairs

Indian Gaming

AGENCY: Bureau of Indian Affairs, Interior.

ACTION: Notice of Approved Tribal-State Gaming Compact Amendment.

SUMMARY: This notice publishes the Approval of the Tribal-State Compact for Class III Gaming Amendments between the State of Washington and the Snoqualmie Tribe.

DATES: Effective Date: October 22, 2008.

FOR FURTHER INFORMATION CONTACT: Paula L. Hart, Acting Director, Office of Indian Gaming, Office of the Deputy Assistant Secretary—Policy and Economic Development, Washington, DC 20240, (202) 219-4066.

SUPPLEMENTARY INFORMATION: Pursuant to section 11 of the Indian Gaming Regulatory Act of 1988 (IGRA), Public Law 100-497, 25 U.S.C. 2710, the Secretary of the Interior shall publish in the Federal Register notice of the approved Tribal-State compact Amendment for the purpose of engaging in Class III gaming activities on Indian lands. This Amendment extends the six month conditional waiting period to twelve months, increases the gaming stations, incorporates the agreement to transfer gaming stations and allows the Tribe to operate one more gaming facility on its Indian lands. This Amendment is hereby approved.

Dated: October 14, 2008.
George T. Skibine,
Acting Deputy Assistant Secretary for Policy and Economic Development—Indian Affairs.

[FR Doc. E8-25197 Filed 10-22-08; 8:45 am]

BILLING CODE 4310-4N-P